DEPARTMENT OF HEALTH AND HUMAN SERVICES

Office of the Secretary

Agency Information Collection Activities: Proposed Collections; Comment Request

The Department of Health and Human Services, Office of the Secretary will periodically publish summaries of proposed information collections projects and solicit public comments in compliance with the requirements of section 3506(c)(2)(A) of the Paperwork Reduction Act of 1995. To request more information on the project or to obtain a copy of the information collection plans and instruments, call the OS Reports Clearance Office at (202) 619-2118 or e-mail Geerie.Jones@HHS.gov.

Comments are invited on: (a) Whether the proposed collection of information is necessary for the proper performance of the functions of the agency, including whether the information shall have practical utility; (b) the accuracy of the agency's estimate of the burden of the proposed collection of information; (c) ways to enhance the quality, utility and clarity of the information to be collected; and (d) ways to minimize the burden of the collection of information on respondents, including through the use of automated collection techniques or other forms of information technology.

Proposed Project: 1. Monitoring the United States Blood Supply—New—The Office of Public Health and Science will monitor the nation's blood supply by gathering daily supply status information from 29 select sites including 26 sentinel transfusion services and three community-wide blood banks.

Respondents: hospitals or blood banks.

Number of Respondents: 29.

Number of Responses: 5,800.

Average Burden per Response: one hour.

Total Burden: 5,800 hours.

Send comments via e-mail to Geerie.Jones@HHS.gov or mail to OS Reports Clearance Office, Room 503H, Humphrey Building, 200 Independence Avenue SW., Washington, DC, 20201. Written comments should be received within 60 days of this notice.

Dated: December 19, 2002.
Kerry Weems,
Deputy Assistant Secretary, Budget.

[FR Doc. 03-60 Filed 1-2-03; 8:45 am]

BILLING CODE 4150-28-M